DEPARTMENT OF THE INTERIOR

Bureau of Land Management

[LLWY-957000-17-L13100000-PP0000]

Filing of Plats of Survey, Wyoming

AGENCY: Bureau of Land Management, Interior.

ACTION: Notice.

SUMMARY: The Bureau of Land Management (BLM) is scheduled to file plats of survey thirty (30) calendar days from the date of this publication in the BLM Wyoming State Office, Cheyenne, Wyoming. The surveys were executed at the request of the Bureau of Land Management, the U.S. Forest Service and the National Park Service and are necessary for the management of these lands. The lands surveyed are:

The plat and field notes representing the dependent resurvey of a portion of the west boundary, Tracts 37, 38 and 40, portions of Tract 41, and portions of the subdivisional lines, and the survey of the subdivision of section 27, Township 13 North, Range 101 West, Sixth Principal Meridian, Wyoming, Group No. 937, was accepted November 8, 2016.

The plat and field notes representing the dependent resurvey of portions of the west and north boundaries, and portions of the subdivisional lines, and the survey of the subdivision of section 6, Township 26 North, Range 71 West, Sixth Principal Meridian, Wyoming, Group No. 941, was accepted November 8, 2016.

The plat and field notes representing the dependent resurvey of portions of Tracts 37 and 38, and portions of the subdivisional lines, and the survey of the subdivision of sections 12, 26 and 27, Township 26 North, Range 72 West, Sixth Principal Meridian, Wyoming, Group No. 942, was accepted November 8, 2016.

The plat and field notes representing the dependent resurvey of portions of the west boundary and subdivisional lines, the survey of the subdivision of section 18, and the survey of the meanders of portions of the left bank of Belle Fourche River, Township 53 North, Range 65 West, Sixth Principal Meridian, Wyoming, Group No. 945, was accepted November 8, 2016.

The plat and field notes representing the dependent resurvey of portions of the subdivisional lines and the survey of the subdivision of sections 12 and 13, Township 53 North, Range 66 West, Sixth Principal Meridian, Wyoming, Group No. 945, was accepted November 8, 2016.

FOR FURTHER INFORMATION CONTACT: WY957, Bureau of Land Management, 5353 Yellowstone Road, P.O. Box 1828, Cheyenne, Wyoming 82003.

SUPPLEMENTARY INFORMATION: A person or party who wishes to protest against any of the above surveys must file a written notice within thirty (30) calendar days from the date of this publication with the Wyoming State Director, Bureau of Land Management, at the above address, stating that they wish to protest. A statement of reasons for the protest may be filed with the notice of protest and must be filed with the Wyoming State Director within thirty (30) calendar days after the protest is filed. If a protest against the survey is received prior to the date of official filing, the filing will be stayed pending consideration of the protest. A plat will not be officially filed until the day after all protests have been dismissed or otherwise resolved. Before including your address, phone number, email address, or other personal identifying information in your protest, you should be aware that your entire protest—including your personal identifying information—may be made publicly available at any time. While you can ask us to withhold your personal identifying information from public review, we cannot guarantee that we will be able to do so.

Copies of the preceding described plats and field notes are available to the public at a cost of $4.20 per plat and $.13 per page of field notes.

Dated: November 8, 2016.
John P. Lee,
Chief Cadastral Surveyor, Division of Support Services.

[FR Doc. 2016-27445 Filed 11-14-16; 8:45 am]

BILLING CODE 4310-22-P